DEPARTMENT OF COMMERCE

National Oceanic and Atmospheric Administration

50 CFR Part 622

[I.D. 051700B]

South Atlantic Fishery Management Council; Public Hearing

AGENCY: National Marine Fisheries Service (NMFS), National Oceanic and Atmospheric Administration (NOAA), Commerce.

ACTION: Notice of public hearing.

SUMMARY: The South Atlantic Fishery Management Council (Council) will convene a public hearing regarding draft options for Amendment 3 to the Golden Crab Fishery Management Plan (FMP). The amendment addresses gear restrictions, permitting processes, limits on vessel size, crew safety and zoning/participation conflicts.

The Council will take action on its proposed Amendment 3 during the full Council session at its June 2000 meeting.

DATES: The hearing will be held in June. See SUPPLEMENTARY INFORMATION for specific date and time of the public hearing.

ADDRESSES: Copies of the draft amendment are available from Kim Iverson, South Atlantic Fishery Management Council, One Southpark Circle, Suite 306, Charleston, SC 29407-4699; telephone: 843-571-4366. The draft options paper will also be available at the public hearing. The public hearing will be held in Florida. See SUPPLEMENTARY INFORMATION for specific hearing location.

FOR FURTHER INFORMATION CONTACT: Kim Iverson, South Atlantic Fishery Management Council, One Southpark Circle, Suite 306, Charleston, SC 29407-4699; telephone: 843-571-4366; fax: 843-769-4520; E-mail address: kim.iverson@safmc.noaa.gov.

SUPPLEMENTARY INFORMATION: The Council is considering gear modifications that would extend the use of wire cable for main lines through December 31, 2002, and adjust the size of the escape panel or door; allow vessel size to increase by 20 percent; and remove the 5000-pound harvest requirement for the biannual permit. To address zoning and participation conflicts, the Council is considering creating a sub-zone for smaller vessels in the southern zone that would be reviewed on an annual basis. The Council is also considering allowing vessels from the middle and southern zones to fish in the northern zone for a limited time.

Time and Location of Public Hearing

The public hearing regarding draft options for Amendment 3 to the Golden Crab Fishery Management Plan will be held at the following location, date, and time.

June 12, 2000, 6:00 p.m., Cheeca Lodge, Mile Marker 82, U.S. Highway 1, Islamorada, FL 33036, Telephone: 800-327-2888 or 305-664-4651.

Copies of the draft options paper can be obtained from the Council (see ADDRESSES).

Special Accommodations

These meetings are physically accessible to people with disabilities. Requests for sign language interpretation or other auxiliary aids should be directed to the Council office (see ADDRESSES) by June 5, 2000.

Dated: May 26, 2000.
Bruce C. Morehead,
Acting Director, Office of Sustainable Fisheries, National Marine Fisheries Service.

[FR Doc. 00-13751 Filed 6-1-00; 8:45 am]

BILLING CODE 3510-22-F